NEIGHBORHOOD REINVESTMENT CORPORATION

Sunshine Act Meetings; Audit Committee Meeting

TIME & DATE: 1:00 p.m., Thursday, September 8, 2022.

PLACE: Via Conference Call.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b (c)(2) and (4) permit closure of the following portion(s) of this meeting:

• Executive Session

Agenda

I. CALL TO ORDER

II. FY21 External Audit—BDO

III. Sunshine Act Approval of Executive (Closed) Session

IV. Executive Session with Chief Audit Executive

V. Action Item Finance—Accounts Payable/ACH Transactions (NetSuite) FY21

VI. Internal Audit Status Reports

a. Internal Audit Reports Awaiting Management's Response

b. Internal Audit Performance Scorecard

c. FY22 Plan Projects' Activity Summary as of Aug 8, 2022

d. Implementation of Internal Audit Recommendations

VII. Tracking Open Recommendations

a. Dependent on other IT Projects

b. Dependent on Identity Access Management (IAM)

VIII. Adjournment

CONTACT PERSON FOR MORE INFORMATION:

Lakeyia Thompson, Special Assistant, (202) 524-9940; Lthompson@nw.org.

Lakeyia Thompson,
Special Assistant.

[FR Doc. 2022-18673 Filed 8-25-22; 11:15 am]

BILLING CODE 7570-02-P